DEPARTMENT OF THE TREASURY

Submission for OMB Review; Comment Request

September 18, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 25, 2000 to be assured of consideration.

Internal Revenue Service (IRS)

OMB Number: 1545-0054.

Form Number: IRS Form 1000.

Type of Review: Extension.

Title: Ownership Certificate.

Description: Form 1000 is used by citizens, resident individuals, fiduciaries, partnerships and nonresident partnerships in connection with interest on bonds of a domestic, resident foreign, or nonresident foreign corporation containing a tax-free covenant and issued before January 1, 1934. IRS uses the information to verify that the correct amount was withheld.

Respondents: Business or other for-profit, Individuals or households.

Estimated Number of Respondents/Recordkeepers: 1,500.

Estimated Burden Hours Per Respondent/Recordkeeper: 3 hr., 22 min.

Frequency of Response: On occasion.

Estimated Total Reporting/Recordkeeping Burden: 5,040 hours.

OMB Number: 1545-0142.

Form Number: IRS Form 2220.

Type of Review: Extension.

Title: Underpayment of Estimated Tax by Corporations.

Description: Form 2220 is used by corporations to determine whether they are subject to the penalty for underpayment of estimated tax and, if so, the amount of the penalty. The IRS uses Form 2220 to determine if they penalty was correctly computed.

Respondents: Business or other for-profit, Farms.

Estimated Number of Respondents/Recordkeepers: 702,000.

Estimated Burden Hours Per Respondent/Recordkeeper:

Form | Recordkeeping | Learning about the law and the form (in minutes) | Preparing and sending the form to the IRS (in minutes)
2220 | 26 hr., 33 min | 5 | 34
2220, Schedule A, Part I | 11 hr., 14 min | 12 | 23
2220, Schedule A, Part II | 23 hr., 26 min | 0 | 22
2220, Schedule A, Part III | 5 hr., 15 min | 0 | 5

Frequency of Response: Annually.

Estimated Total Reporting/Recordkeeping Burden: 20,557,607 hours.

OMB Number: 1545-0717.

Form Number: IRS Form W-4S.

Type of Review: Extension.

Title: Request for Federal Income Tax Withholding From Sick Pay.

Description: Section 3402(o) of the Internal Revenue Code extends income tax withholding to sick pay payments made by third parties upon request of the payee. The information is used to determine the amount to be withheld from the third-party sick pay payment.

Respondents: Individuals or households.

Estimated Number of Respondents/Recordkeepers: 500,000.

Estimated Burden Hours Per Respondent/Recordkeeper:

Recordkeeping: 39 min.

Learning about the law or the form: 10 min.

Preparing the form: 25 min.

Copying, assembling, and sending the form to the IRS: 16 min.

Frequency of Response: On occasion.

Estimated Total Reporting/Recordkeeping Burden: 765,000 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports, Management Officer.

[FR Doc. 00-24498 Filed 9-22-00; 8:45 am]

BILLING CODE 4830-01-U